DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of November, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate, subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,205; Glass Works WV, LLC, Weston, WV

TA-W-40,304; Quality Mold, Inc., Tool and Die, Erie, PA

TA-W-39,738; Progressive Tool and Die, Inc., Meadville, PA

In the following cases, the investigation revealed that the criteria for eligibility have not been met for the reasons specified.

Increased imports did not contribute importantly to worker separations at the firm.

TA-W-39,791; Tri-Cities Manufacturing, Inc., Tuscumbia, AL

TA-W-39,144; JBF Industries, Inc., Gloversville, NY

TA-W-39,431; Reichard Industries, Inc., Columbia, OH

TA-W-39,565A; Thomaston Mills, Inc., Finishing Div., Finishing Apparel, Thomaston, GA

Affirmative Determinations for Worker Adjustment Assistance

The following certifications have been issued; the date following the company name and location of each determination references the impact date for all workers of such determination.

TA-W-39,565; Thomaston Mills, Inc., Peerless Div., Thomaston, GA A; Finishing Div., Finishing Consumer, Thomaston, GA, B; Lakeside Div., Thomaston, GA, C; Corporation Office, Thomaston, GA, D; New York Office, New York, NY: June 20, 2000.

TA-W-39,528; Fessler Machine Co., Sharon, PA: June 14, 2000.

TA-W-39,251; R and N China Co., Inc., Carrollton, OH: May 2, 2000.

TA-W-39,915; General Cable, Montoursville, PA: August 9, 2000.

TA-W-40,013; Crompton Colors, Inc., Formerly Crompton and Knowles Colors, Inc., Newark, NJ: August 27, 2000.

TA-W-39,435 & A; Mandell Industries, Inc., Oceanside, NY and East Coast Molders, Inc., Oceanside, NY: May 23, 2000.

TA-W-39,800; Van Mar, Inc., Cutting Room, East Brunswick, NJ: July 26, 2000.

TA-W-39,968; Sandvik Special Metals, Kennewick, WA: August 28, 2000.

TA-W-39,472; Garan Manufacturing Corp., Clinton, KY: June 4, 2000.

TA-W-40,305; Abbott Ambulatory Infusion Systems, San Diego, CA: October 9, 2000.

TA-W-39,676; Del Laboratories, Inc., Newark, NJ: July 3, 2000.

TA-W-40,053; Hagale Apparel, Inc., Kinston, NC: April 11, 2001.

TA-W-40,211; DM II, Inc. a/k/a Dani Michaels, New York, NY: September 24, 2000.

TA-W-39,810; Carpenter Technology Corp., Specialty Alloys Operations, Reading, PA and A; Costa Mesa, CA, B; East Hartford, CT, C; Duluth, GA, D; Downers Grove, IL, E; Auburn Hills, MI, F; North Olmsted, OH, G, Ft. Washington, PA, H: Houston, TX: July 30, 2000.

Also, pursuant to title V of the North American Free Trade Agreement Implementation Act (Pub. L. 103-182) concerning transitional adjustment assistance hereinafter called (NAFTA-TAA) and in accordance with section 250 (a), subchapter D, chapter 2, title II, of the Trade Act as amended, the Department of Labor presents summaries of determinations regarding eligibility to apply for NAFTA-TAA issued during the month of November 2001.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely;

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05516; Tri-Cities Manufacturing, Inc., Tuscumbia, AL

NAFTA-TAA-04978; Industrial Seaming Co., Inc., Granite Falls, NC

NAFTA-TAA-05114; Morgan Machine, Fulton, MO

NAFTA-TAA-05315; Mail Well Envelope Co., Portland, OR

NAFTA-TAA-04777; Monona Wire Corp., Edgewood, IA

NAFTA-TAA-05397; Connely North America, El Paso, TX

NAFTA-TAA-05452; Quality Mold, Inc., Tool and Die, Erie, PA

NAFTA-TAA-04977; Perlos, Inc., Fort Worth, TX

NAFTA-TAA-04930; Jarrett Lumber and Logging, Inc., Bristol, TN

Affirmative Determinations NAFTA-TAA

NAFTA-TAA-04933; Newbold Corp., Rocky Mount, VA: May 15, 2000.

NAFTA-TAA-05396; Intermetro Industries, Wilkes Barre, PA: September 30, 2000.

NAFTA-TAA-05276; Damy Industries, Athens, TN: July 19, 2000.

NAFTA-TAA-05213; Evergreen Sewing, Inc., Seattle, WA: August 8, 2000.

NAFTA-TAA-05264; Pliant Corp., a/k/a Uniplast Films, Inc., Palmer, MA: August 21, 2000.

NAFTA-TAA-05385; Lexington Fabrics, Inc., Geraldine, AL: August 22, 2000.

NAFTA-TAA-05391; J and L Structural, Inc., Ambridge Div., Ambridge, PA: September 29, 2000.

I hereby certify that the aforementioned determinations were issued during the month of November 2001. Copies of these determinations are available for inspection in Room C-5311, U.S. Department of Labor, 200 Constitution Avenue, NW., Washington, DC 20210 during normal business hours or will be mailed to persons who write to the above address.

Dated: November 16, 2001.
Edward A. Tomchick,
Director, Division of Trade Adjustment Assistance.

[FR Doc. 01-29753 Filed 11-29-01; 8:45 am]

BILLING CODE 4510-30-M